DEPARTMENT OF COMMERCE

Bureau of the Census

[Docket Number 0612243149-63149-01]

RIN 0607-AA42

2010 Census Redistricting Data Program Commencement of Phase 2: The Voting District/Block Boundary Suggestion Project

AGENCY: Bureau of the Census, Department of Commerce.

ACTION: Notice of program.

SUMMARY: This notice announces the commencement of Phase 2 of the 2010 Census Redistricting Data Program: The Voting District/Block Boundary Suggestion Project. This second phase specifically provides States the opportunity to submit their voting districts (election precincts, wards, etc.) to the Bureau of the Census (Census Bureau) for the development of data products by voting district in the Phase 3 release of the 2010 Census Redistricting Data. In addition to providing the Census Bureau with their voting districts, States may opt to provide the Census Bureau with their suggestions for the 2010 Census tabulation block inventory. States may choose to participate in one or both options during Phase 2. Participation in Phase 2 is voluntary.

DATES: Comments on this notice must be received by May 21, 2007. The deadline for States to notify the Census Bureau that they wish to participate in the Phase 2: Voting District/Block Boundary Suggestion Project is December 15, 2007.

ADDRESSES: Please direct all written comments on this notice to the Director, U.S. Census Bureau, Room 8H001, mail stop 0100, Washington, DC 20233-0001.

FOR FURTHER INFORMATION CONTACT: Catherine C. McCully, Chief of the Census Redistricting Data Office, U.S. Census Bureau, Room 8H019, Washington, DC 20233, telephone (301) 763-4039.

SUPPLEMENTARY INFORMATION: Under the provisions of Public Law 94-171 (Title 13, United States Code (U.S.C.), Section 141(c)), the Director of the Census Bureau is required to provide the “officers or public bodies with initial responsibility for legislative apportionment or districting of each State * * * ” with the opportunity to specify geographic areas (for example, voting districts, wards, and election precincts) for which they wish to receive decennial census population totals for the purpose of reapportionment and redistricting.

By April 1 of the year following the decennial census, the Secretary is required to furnish the State officials or their designees with population counts for counties, cities, census blocks, and State-specified congressional districts, legislative districts, and voting districts.

In accordance with the provisions of Title 13, U.S.C. Section 141(c), and on behalf of the Secretary of Commerce, the Director announces the commencement of Phase 2 of the 2010 Census Redistricting Data Program. The purpose of this notice is to provide further information on the commencement of the 2010 Census Redistricting Data Program, Phase 2Voting District/Block Boundary Suggestion Project. Future notices will address the remaining phases of this 2010 Program.

The 2010 Census Redistricting Data Program ¹ was initially announced on May 13, 2004, in the Federal Register (69 FR 26547). This notice described the program that the Census Bureau proposed to adopt for the 2010 Census. In addition, Phase 1 of the 2010 Census Redistricting Data Program was initially announced in a second Federal Register notice on February 15, 2005 (70 FR 7713). This notice described the procedures to be followed under Phase 1 for States to submit their legislative districts (House and Senate) to the Census Bureau for the development of data products by legislative district. For additional background information on these notices, please consult the Federal Register issues referenced above. Phase 1 was concluded on January 4, 2007, with the release of data re-tabulated from Census 2000 SF-1 (100% data) and SF-3 (sample data) for State legislative districts nationwide (50 States, the District of Columbia, and the Commonwealth of Puerto Rico).

¹ As in the 1990 and 2000 censuses, the 2010 Census Redistricting Data Program is being partitioned into several phases. State participation in Phases 1 and 2 of the 2010 Redistricting Data Program under 13 U.S.C. 141 is voluntary.

Beginning in the summer of 2007 and by separate letter, the Director of the Census Bureau will invite each State to participate in Phase 2, the Voting District/Block Boundary Suggestion Project. This phase will include a verification step prior to release of the Phase 3 data. For each State responding by December 15, 2007 that it wishes to participate in Phase 2, the Census Bureau will provide one county of data for that State from the MAF/TIGER Database and a copy of the MAF/TIGER Partnership Software (MTPS) to enable the State to begin work on Phase 2. States are not required to use the MTPS; however, they are required to provide their Phase 2 submission to the Census Bureau electronically in Census Bureau specified formats. During this time, the Census Bureau will provide training in the use of the MTPS and assist the States in preparing for the remaining counties within each State, scheduled for later in the fall of 2008. The States will have the opportunity to verify the inclusion of their voting districts and suggested tabulation block boundary features during 2009 and early 2010, to ensure the voting district boundaries that will be used by the Census Bureau are consistent with their submissions.

The Census Bureau will continue to communicate with each State to ensure that the States are well informed on the benefits of working with the Census Bureau towards a successful 2010 Census. In addition, the Redistricting Data Office will continue to work with each State to ensure it is prepared to participate in Phase 2 and Phase 3: Delivery of the Decennial 2010 Census Redistricting Data. Every State, regardless of its participation in Phase 2, will receive the official redistricting data sets, as required by Pub. L. 94-171.

Executive Order 12866

This notice has been determined to be not significant under Executive Order 12866.

Dated: April 17, 2007.
Charles Louis Kincannon,
Director, Bureau of the Census.

[FR Doc. E7-7532 Filed 4-19-07; 8:45 am]

BILLING CODE 3510-07-P